ENVIRONMENTAL PROTECTION AGENCY

[FRL-7230-6]

Persistent Organic Pollutants

AGENCY: Environmental Protection Agency (EPA).

ACTION: Notice of availability.

SUMMARY: This notice announces the availability of a final technical report titled, The Foundation for Global Action on Persistent Organic Pollutants: A United States Perspective (EPA/600/P-01/003F, March 2002), which was prepared by the Office of Research and Development's (ORD) National Center for Environmental Assessment (NCEA). The purpose of this report is to inform decision makers, general academia, and the public on the scientific foundation and relevance to the United States of the Stockholm Convention on Persistent Organic Pollutants (POPs).

ADDRESSES: The document is available electronically on NCEA's Web site at www.epa.gov/ncea, under the What's New or Publications menus. The CD-ROM version and a limited number of paper copies will be available shortly from the EPA's National Service Center for Environmental Publications (NSCEP), PO Box 42419, Cincinnati, OH 45242; telephone: 1-800-490-9198 or 513-489-8190; facsimile: 513-489-8695. Please provide your name and mailing address and the title and EPA number of the requested publication.

FOR FURTHER INFORMATION CONTACT: For further information on The Foundation for Global Action on Persistent Organic Pollutants: A United States Perspective, please contact Dr. Bruce Rodan, National Center for Environmental Assessment (8601D), U.S. Environmental Protection Agency, 1200 Pennsylvania Avenue, NW., Washington, DC 20460; Telephone: 202-564-3329; facsimile: (202) 565-0090; e-mail: rodan.bruce@epa.gov; or the Technical Information Staff, National Center for Environmental Assessment/Washington Office (8623D), U.S. Environmental Protection Agency, 1200 Pennsylvania Avenue, NW., Washington, DC 20460. Telephone: 202-564-3261; facsimile: 202-565-0050; e-mail: nceadc.comment@epa.gov.

SUPPLEMENTARY INFORMATION: The Foundation for Global Action on Persistent Organic Pollutants: A United States Perspective, developed by scientists from EPA, other federal and state agencies, and the academic community, is a technical support document aimed at informing decision makers, general academia, and the public on the scientific foundation and relevance to the United States of the Stockholm Convention on Persistent Organic Pollutants (POPs). POPs are a small group of organic chemicals exhibiting the combined properties of persistence, bioaccumulation, toxicity, and long-range environmental transport. The report, which has been through internal review, independent external peer review, and public review and comment, summarizes data available in the peer reviewed literature on the 12 POPs chemicals initially included in the Stockholm Convention and provides an overview of the risks posed to U.S. ecosystems and the public. This small group of chemicals have been major contributors to toxic environmental pollution in the United States and worldwide. The 12 POPs included in the Convention are: aldrin, dieldrin, endrin, DDT, chlordane, heptachlor, mirex, toxaphene, hexachlorobenzene, polychlorinated biphenyls (PCBs), polychlorinated dibenzo-p-dioxins, and polychlorinated dibenzofurans. The Stockholm Convention on POPs was signed by EPA Administrator Christine Todd Whitman on behalf of the United States in May 2001, and has been submitted to Congress for ratification.

Dated: June 7, 2002.
Art Payne,
Acting Director, National Center for Environmental Assessment.

[FR Doc. 02-14993 Filed 6-12-02; 8:45 am]

BILLING CODE 6560-50-P